DEPARTMENT OF JUSTICE

Antitrust Division

Notice Pursuant to the National Cooperative Research and Production Act of 1993—Cooperative Research Group on CHEDE-VII

Notice is hereby given that, on April 21, 2016, pursuant to Section 6(a) of the National Cooperative Research and Production Act of 1993, 15 U.S.C. 4301 et seq. (“the Act”), Southwest Research Institute—Cooperative Research Group on CHEDE-VII (“CHEDE-VII”) has filed written notifications simultaneously with the Attorney General and the Federal Trade Commission disclosing changes in its membership. The notifications were filed for the purpose of extending the Act's provisions limiting the recovery of antitrust plaintiffs to actual damages under specified circumstances. Specifically, Toyota Motor Corporation, Shizuoka Perfecture, JAPAN; and Komatsu Ltd., Tochigi-Ken, JAPAN, have been added as parties to this venture.

No other changes have been made in either the membership or planned activity of the group research project. Membership in this group research project remains open, and CHEDE-VII intends to file additional written notifications disclosing all changes in membership.

On January 6, 2016, CHEDE-VII filed its original notification pursuant to Section 6(a) of the Act. The Department of Justice published a notice in the Federal Register pursuant to Section 6(b) of the Act on February 2, 2016, (81 FR 5484).

The last notification was filed with the Department on March 15, 2016. A notice was published in the Federal Register pursuant to section 6(b) of the Act on April 14, 2016(81 FR 22121).

Patricia A. Brink,
Director of Civil Enforcement, Antitrust Division.

[FR Doc. 2016-11137 Filed 5-11-16; 8:45 am]

BILLING CODE P